DEPARTMENT OF LABOR

Office of the Secretary

Agency Information Collection Activities; Submission for OMB Review; Comment Request; Reporting and Performance Standards for Workforce Investment Act Indian and Native American Programs

ACTION: Notice.

SUMMARY: On May 31, 2013, the Department of Labor (DOL) will submit the Employment and Training (ETA) sponsored information collection request (ICR) revision titled, “Reporting and Performance Standards for Workforce Investment Act Indian and Native American Programs,” to the Office of Management and Budget (OMB) for review and approval for use in accordance with the Paperwork Reduction Act (PRA) of 1995 (44 U.S.C. 3501 et seq.).

DATES: Submit comments on or before July 1, 2013.

ADDRESSES: A copy of this ICR with applicable supporting documentation; including a description of the likely respondents, proposed frequency of response, and estimated total burden may be obtained free of charge from the RegInfo.gov Web site at http://www.reginfo.gov/public/do/PRAViewICR?ref_nbr=201212-1205-006 (this link will only become active on June 1, 2013) or by contacting Michel Smyth by telephone at 202-693-4129 (this is not a toll-free number) or sending an email to DOL_PRA_PUBLIC@dol.gov.

Submit comments about this request to the Office of Information and Regulatory Affairs, Attn: OMB Desk Officer for DOL-ETA, Office of Management and Budget, Room 10235, 725 17th Street, NW., Washington, DC 20503, Fax: 202-395-6881 (this is not a toll-free number), email: OIRA_submission@omb.eop.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: This ICR covers the recordkeeping and reporting system for the Indian and Native Americans funded grants and has three constituent information collections: (1) A quarterly Comprehensive Services Program report (Form ETA-9084), (2) a Standardized Participant Information Record, and (3) a quarterly Supplemental Youth Services Program Report (Form ETA-9085). These three information collections are the basis of the performance standards system for Workforce Investment Act section 166 grantees.

The ETA is revising this ICR in the following manner. Form ETA 9084 will now capture the number of eligible veterans and spouses served (with the addition of two data fields). The DOL notes that Form ETA-9085 has already been recording this information and will not be changed. In addition, Form ETA-9085 information will now be collected on the number of eligible youth between the ages of 14-21 years, rather than ages 14-24, which was allowed under the American Reinvestment and Recovery Act of 2009 (ARRA). Form ETA-9085 adds a credential attainment measure. Finally, Form-ETA 9085 data will revert to being collected quarterly, rather than monthly, as was the case prior to ARRA requirements. For additional substantive information about this ICR, see the related notice published in the Federal Register on March 28, 2013 (78 FR 19018).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1205-0422. The current approval is scheduled to expire on May 31, 2013; however, it should be noted that existing information collection requirements submitted to the OMB receive a month-to-month extension while they undergo review. New information collection requirements will only take effect upon OMB approval.

Interested parties are encouraged to send comments to the OMB, Office of Information and Regulatory Affairs at the address shown in the ADDRESSES section by July 1, 2013. In order to help ensure appropriate consideration, comments should mention OMB Control Number 1205-0422. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-Employment and Training Administration.

Title of Collection: Program Reporting and Performance Standards System for Indian and Native American Programs.

OMB Control Number: 1205-0422.

Affected Public: Individuals or Households; State, Local, and Tribal Governments, and Private Sector—not-for-profit institutions.

Total Estimated Number of Respondents: 13,771.

Total Estimated Number of Responses: 28,110.

Total Estimated Annual Burden Hours: 53,611.

Total Estimated Annual Other Costs Burden: $0.

Dated: May 22, 2013.
Michel Smyth,
Departmental Clearance Officer.

[FR Doc. 2013-12756 Filed 5-29-13; 8:45 am]

BILLING CODE 4510-FN-P